COMMODITY FUTURES TRADING COMMISSION

Agency Information Collection Activities Under OMB Review

AGENCY: Commodity Futures Trading Commission.

ACTION: Notice.

SUMMARY: In compliance with the Paperwork Reduction Act of 1995 (PRA), this notice announces that the Information Collection Request (ICR) abstracted below has been forwarded to the Office of Management and Budget (OMB) for review and comment. The ICR describes the nature of the information collection and its expected costs and burden.

DATES: Comments must be submitted on or before September 23, 2016.

ADDRESSES: Comments regarding the burden estimated or any other aspect of the information collection, including suggestions for reducing the burden, may be submitted directly to the Office of Information and Regulatory Affairs (OIRA) in OMB, within 30 days of the notice's publication, by email at OIRAsubmissions@omb.eop.gov. Please identify the comments by OMB Control No. 3038-0099. Please provide the Commodity Futures Trading Commission (“CFTC” or “Commission”) with a copy of all submitted comments at the address listed below. Please refer to OMB Reference No. 3038-0099, found on http://reginfo.gov. Comments may also be mailed to the Office of Information and Regulatory Affairs, Office of Management and Budget, Attention: Desk Officer for the Commodity Futures Trading Commission, 725 17th Street NW., Washington, DC 20503, and to: Roger Smith, Special Counsel, Division of Market Oversight, Commodity Futures Trading Commission, Three Lafayette Centre, 1155 21st Street NW., Washington, DC 20581; or through the CFTC Web site at http://comments.cftc.gov. Follow the instructions for submitting comments through the Web site.

Comments may also be mailed to: Christopher J. Kirkpatrick, Secretary of the Commission, Commodity Futures Trading Commission, Three Lafayette Centre, 1155 21st Street NW., Washington, DC 20581 or by Hand Deliver/Courier at the same address.

A copy of the supporting statements for the collection of information discussed above may be obtained by visiting RegInfo.gov. All comments must be submitted in English, or if not, accompanied by an English translation. Comments will be posted as received to www.cftc.gov.

FOR FURTHER INFORMATION CONTACT: Roger Smith, Special Counsel, Division of Market Oversight, Commodity Futures Trading Commission, (202) 418-5344; email: rsmith@cftc.gov, and refer to OMB Control No. 3038-0099. A copy may also be obtained from this contact.

SUPPLEMENTARY INFORMATION: Title: Process for a Swap Execution Facility or Designated Contract Market to Make a Swap Available to Trade (OMB Control No. 3038-0099). This is a request for extension of a currently approved information collection.

Abstract: The collection of information is needed to help determine which swaps should be subject to the trade execution requirement under Section 2(h)(8) of the Commodity Exchange Act pursuant to Section 723 of the Dodd-Frank Wall Street Reform and Consumer Protection Act. A swap execution facility (“SEF”) or designated contract market (“DCM”) that submits a determination that a swap is available to trade must address at least one of several factors to demonstrate that the swap is suitable for trading pursuant to the trade execution requirement. The Commission uses the collection of information to facilitate the application of the trade execution requirement and the requirements associated with methods of execution under parts 37 and 38 of the Commission's regulations.

The Commission did not receive any relevant comments on the 60-day Federal Register notice, 81 FR 38689, dated June 14, 2016.

Burden Statement: The Commission estimates the burden of reviewing the prescribed factors and data to make a determination for this collection to be 16 hours per response. The total cost burden per rule submission filing is estimated to be $958.16. The Commission based its calculation on (1) an hourly wage rate of $48.14 for a Compliance Specialist to perform the filing over 8 hours;¹ an hourly wage rate of $71.63 for one economist to analyze trading data in the process over 8 hours.²

¹ See Report on Management & Professional Earnings in the Securities Industry 2013, Securities Industry and Financial Markets Association at 4 (Oct. 2013). The report lists the average total annual compensation for a compliance specialist (intermediate) as $66,649. The Commission estimated the personnel's hourly cost by assuming an 1,800 hour work year and by multiplying by 1.3 to account for overhead and other benefits.

² See Bureau of Labor Statistics, U.S. Department of Labor, Occupational Outlook Handbook, Economists, http://www.bls.gov/ooh/life-physical-and-social-science/economists.htm. The report lists the median total annual compensation for an economist as $99,180. The Commission estimated the economist personnel's hourly cost by assuming an 1,800 hour work year and by multiplying by 1.3 to account for overhead and other benefits.

Respondents/Affected Entities: SEFs, DCMs.

Estimated Number of Respondents: 5.

Estimated Total Annual Burden on Respondents: 80 hours.

Frequency of Collection: Occasional.

Authority: 44 U.S.C. 3501 et seq.

Dated: August 19, 2016.
Christopher J. Kirkpatrick,
Secretary of the Commission.

[FR Doc. 2016-20288 Filed 8-23-16; 8:45 am]

BILLING CODE 6351-01-P